NUCLEAR REGULATORY COMMISSION

[Docket No. 70-7033; NRC-2024-0061]

Global Laser Enrichment, LLC.; New Headquarters; Environmental Assessment and Finding of No Significant Impact

AGENCY: Nuclear Regulatory Commission.

ACTION: Notice; issuance.

SUMMARY: The U.S. Nuclear Regulatory Commission (NRC) staff is considering approval of a revision to the program cyber security plan (PCSP) held by Global Laser Enrichment, LLC (GLE) to extend the classified network to a new headquarters building. The NRC staff is issuing an environmental assessment (EA) and finding of no significant impact (FONSI) associated with the proposed revisions.

DATES: The EA and FONSI referenced in this document are available on May 9, 2024.

ADDRESSES: Please refer to Docket ID NRC-2024-0061 when contacting the NRC about the availability of information regarding this document. You may obtain publicly available information related to this document using any of the following methods:

• Federal Rulemaking website: Go to https://www.regulations.gov and search for Docket ID NRC-2024-0061. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section. Individuals seeking access to Official Use Only information should contact Matthew Bartlett, using the contact information below.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Matthew Bartlett, Office of Nuclear Material Safety and Safeguards, U.S. Nuclear Regulatory Commission, Washington, DC 20555-0001, telephone: 301-415-7154; email: Matthew.Bartlett@nrc.gov.

SUPPLEMENTARY INFORMATION:

I. Introduction

The NRC staff is considering the approval of an update to a PCSP held by GLE for operations at a new headquarters, located in Wilmington, NC, approximately 6.2 miles from GLE's existing test loop facility. Therefore, as required by section 51.21 of title 10 of the Code of Federal Regulations (10 CFR), “Criteria for and identification of licensing and regulatory actions requiring environmental assessments,” the NRC staff has prepared an EA that analyzes the environmental effects of the proposed action. Based on the results of the EA and in accordance with 10 CFR 51.31(a), the NRC staff is issuing a FONSI for the proposed update to the PCSP.

Approval of the updated PCSP would allow for the incorporation of classified systems at the new headquarters building into the existing GLE authorization to operate a classified network. The request for approval of an updated PCSP was submitted September 21, 2023, and updated November 13, 2023. The NRC staff is also considering the approval of a separate but related request for issuance of a facility clearance under 10 CFR part 95 for GLE's new headquarters building, published in the Federal Register on April 29, 2024 (89 FR 33404).

II. Environmental Assessment

Description of the Proposed Action

The proposed action would allow GLE to extend the classified computer network to a new headquarters location approximately 6.2 miles from the test loop. As proposed, GLE would continue to possess, use, and store classified matter at its test loop facility and would also possess, use, and store classified matter at the new headquarters location under the revised PCSP. GLE operates a test loop for industrialization of the uranium enrichment process that uses separation of isotopes by laser excitation. Although GLE has an NRC-issued facility security clearance for the test loop facility under 10 CFR part 95 for protection of classified matter, the facility's operations, safety, and safeguards programs are authorized under the Global Nuclear Fuel—America license SNM-1097.

Need for the Proposed Action

The proposed action would allow GLE to extend the classified computer network to a new headquarters location to facilitate further research and development potentially leading to the industrialization of the laser enrichment process. The proposed NRC staff approval of the updated PCSP would add approval for the possession and use of classified matter at the new headquarters location.

Environmental Impacts of the Proposed Action

The NRC staff has assessed the potential environmental impacts from GLE's updated PCSP. The classified systems at the headquarters building will include appropriate controls for the protection of classified matter. These headquarter systems will facilitate the exchange of classified matter with the test loop facility but will have no operational or environmental impacts on the test loop. The NRC staff evaluated the potential for impacts at the GLE headquarters facility from the proposed action, which involves only changes to information systems. The NRC staff concluded that the proposed action will cause no significant change in the types of or significant increase in the amounts of any effluents that may be released offsite, that there will be no significant increase in individual or cumulative occupational radiation exposure, that there will be no significant construction impact, and that there will be no significant increase in the potential for or consequences from radiological accidents. The NRC staff assessed the impacts of the proposed action on land use; historical and cultural resources; visual and scenic resources; climatology, meteorology and air quality; geology, minerals, and soils; water resources; ecological resources; socioeconomics; noise; traffic and transportation; public and occupational health and safety; and waste management and concluded that the proposed action would have no significant environmental impacts on these resource areas. The NRC staff determined that there are no cumulative impacts associated with the proposed action.

Environmental Impacts of the Alternatives to the Proposed Action

As an alternative to the proposed action, the staff considered denial of the proposed action (i.e., the “no-action” alternative). Under this alternative, GLE would not be granted approval of the updated cyber security plan. Denial of the proposed action would result in GLE being unable to conduct operations related to classified matter at its headquarters location. GLE would continue its current operations at the test loop facility. The NRC staff concluded that environmental impacts from the no-action alternative would not be significant.

Agencies and Persons Consulted

The Endangered Species Act (ESA) was enacted to prevent further decline of endangered and threatened species and restore those species and their critical habitat. Section 7 of the ESA requires Federal agencies to consult with the U.S. Fish and Wildlife Service or the National Marine Fisheries Service, as appropriate, regarding actions that may affect listed species or designated critical habitats. The NRC staff has determined that the proposed action would have no effect on threatened or endangered species or critical habitat. Therefore, consultation under section 7 of the ESA is not required.

Section 106 of the National Historic Preservation Act (NHPA) requires Federal agencies to consider the effects of their undertakings on historic properties. As stated in the NHPA, historic properties are any prehistoric or historic district, site, building, structure, or object included in or eligible for inclusion in the National Register of Historic Places. The NRC staff has determined that the undertaking is a type of activity that does not have the potential to cause effects on any historic properties that may be present. Therefore, in accordance with 36 CFR 800.3(a)(1), the NRC has no further obligations under section 106 of the NHPA.

III. Finding of No Significant Impact

GLE has requested approval of its updated PCSP. The NRC staff has prepared an EA as part of its review of the proposed action. The proposed action would have no significant radiological or non-radiological impacts to environmental resources. This FONSI incorporates by reference the EA in Section II of this notice. On the basis of this EA, the NRC staff concludes that the proposed action will not have a significant effect on the quality of the human environment. Accordingly, the NRC has determined not to prepare an environmental impact statement.

IV. Availability of Documents

The documents identified in the following table are available to interested persons through one or more of the following methods, as indicated.

Document description | ADAMS Accession No.
Approval of Updates to the Global Laser Enrichment LLC Standard Practice, Procedure Plan and Transportation Plan, to Support the New, Off-Site Headquarters Building, dated May 1, 2024. | ML24037A127
Submission of Global Laser Enrichment, LLC Cyber Security Plan Incorporating Coverage for the new GLE Headquarters, dated September 21, 2023. | ML23283A247
Submission of Global Laser Enrichment Program Cyber Security Plan Incorporating Coverage for the new GLE Headquarters updated PCSP, dated November 13, 2023. | ML23335A135

Dated: May 5, 2024.
For the Nuclear Regulatory Commission.
Samantha Lav,
Chief, Fuel Facilities Licensing Branch, Division of Fuel Management, Office of Nuclear Material Safety and Safeguards.

[FR Doc. 2024-10124 Filed 5-8-24; 8:45 am]

BILLING CODE 7590-01-P